DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

New Jersey Transit

[Docket Number FRA-2004-18577]

New Jersey Transit (NJ Transit) seeks a modification to its waiver granted September 29, 2004. NJ Transit was granted a waiver of compliance from the provisions of the Federal Track Safety Standards, 49 CFR 213.345, subpart G, regarding use of instrumented wheelset tests (IWS) for vehicle qualification testing of its new COMET V coach equipment. In lieu of the IWS tests, NJ Transit demonstrated similarity with in-service COMET IV coach equipment through testing with accelerometers. The testing verified that the design and performance of each type of equipment was substantially the same and NJ Transit was granted a waiver allowing its COMET V coach equipment to operate at maximum speed of 100 mph and three inches of cant deficiency on AMTRAK's NEC between Newark, NJ and Philadelphia, PA.

NJ Transit is asking the Federal Railroad Administration to modify the language of the waiver to extend the operating limits of this equipment to New York City, NY, in order to eliminate operational issues and the need to list equipment on the Northeast Corridor (NEC) timetable with different speeds for different locations. NJ Transit seeks further modification so that the original waiver will also apply to identical Metro North Railroad (MNCW) COMET V coach equipment (NJ Transit operates MNCW's Port Jervis, NY Line from Port Jervis, NY to Hoboken, NJ) that is used interchangeably by NJ Transit in NEC trainsets between Newark, NJ and Philadelphia, PA.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2004-18577) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on February 18, 2005.
Grady C. Cothen, Jr.,
Deputy Associate Administrator for Safety.

[FR Doc. 05-4139 Filed 3-2-05; 8:45 am]

BILLING CODE 4910-06-P